DEPARTMENT OF HEALTH AND HUMAN SERVICES

National Institutes of Health

Center for Scientific Review Amended; Notice of Meeting

Notice is hereby given of a change in the meeting of the Center for Scientific Review Special Emphasis Panel, July 24, 2012, 8:00 a.m. to July 25, 2012, 6:00 p.m., National Institute of Health, 6701 Rockledge Drive, Bethesda, MD, 20892 which was published in the Federal Register on July 3, 2012, 77 FR 39500.

The meeting will be held July 24, 2012, 8:00 a.m.-7:30 p.m. The meeting location remains the same. The meeting is closed to the public.

Dated: July 17, 2012.
Jennifer S. Spaeth,
Director, Office of Federal Advisory Committee Policy.

[FR Doc. 2012-17814 Filed 7-20-12; 8:45 am]

BILLING CODE 4140-01-P